FEDERAL COMMUNICATIONS COMMISSION

47 CFR Part 54

[CC Docket No. 96-45; FCC 01-195]

Federal-State Joint Board on Universal Service

AGENCY: Federal Communications Commission.

ACTION: Final rule; announcement of effective date.

SUMMARY: This document announces the effective date of the amendments to our rules that will extend the deadline for receipt of non-recurring services. The Commission also adopts a rule that will establish a deadline for the implementation of non-recurring services for certain qualified applicants who are unable to complete implementation by the September 30 deadline. We believe these modifications will ensure that schools and libraries have a reasonable and predictable deadline for implementation of non-recurring services. The Report and Order was published in the Federal Register on July 24, 2001. Some of the rules contained information collection requirements.

DATES: Section 54.507(d) published at 66 FR 38375, July 24, 2001 was approved by the Office of Management and Budget (OMB) and effective on July 23, 2001.

FOR FURTHER INFORMATION CONTACT: Katherine Tofigh, Attorney, Common Carrier Bureau, Accounting Policy Division, (202) 418-7400 TTY: (202) 418-0484.

SUPPLEMENTARY INFORMATION: On June 29, 2001 the Commission released a Report and Order (Order), 66 FR 38375 (July 24, 2001), that adopted a rule that will provide additional time for recipients under the schools and libraries universal service support mechanism to implement contracts or agreements with service providers for non-recurring services. Specifically, the rule will extend the deadline for receipt of non-recurring services from June 30, to September 30 following the close of the funding year. Finally, the Commission adopts a rule that will establish a deadline for the implementation of non-recurring services for certain qualified applicants who are unable to complete implementation by the September 30 deadline. The Commission believes these modifications will provide schools and libraries with more time to install non-recurring services, and thereby make greater use of their universal service discounts. A summary of the Order was published in the Federal Register. See 65 FR 38375 (July 24, 2001). Some of the rules contained information collection requirements that required OMB approval. On July 23, 2001, OMB approved the information collections. See OMB No. 3060-0992. The rule amendments adopted by the Commission in the Order took effect on July 23, 2001. This publication satisfies the statement in the Order that the Commission would publish a document in the Federal Register announcing the effective date of the rules.

List of Subjects in 47 CFR Part 54

Communications common carriers, Libraries, Reporting and recordkeeping requirements, Schools, Telecommunications, Telephone.

Federal Communications Commission.
Magalie Roman Salas,
Secretary.

[FR Doc. 01-19679 Filed 8-6-01; 8:45 am]

BILLING CODE 6712-01-P